DEPARTMENT OF HEALTH AND HUMAN SERVICES

Centers for Disease Control and Prevention

Energy Employees Occupational Illness Compensation Program Act of 2000 and Executive Order 13179; Delegation of Authority

Notice is hereby given that I have delegated to the Director, Centers for Disease Control and Prevention, with authority to redelegate, the following authorities vested in the Secretary of Health and Human Services, under the Energy Employees Occupational Illness Compensation Program Act of 2000 (Pub. L. 106-398), and Executive Order 13179, Section 2(b), as amended hereafter, insofar as these authorities pertain to the functions assigned to the Centers for Disease Control and Prevention:

(iii) With assistance of the Department of Energy (DOE), apply methods promulgated to estimate the radiation doses received by individuals applying for assistance.

(iv) Upon request from the Secretary, DOE, appoint members for a physician panel or panels to consider individual workers' compensation claims as part of the DOE Worker Assistance Program.

(v) Provide the Advisory Board on Radiation and Worker Health established pursuant to Pub. L. 106-398 with administrative services, funds, facilities, staff, and other necessary support services, and perform the administrative functions of the President under the Federal Advisory Committee Act with respect to the Advisory Board.

This delegation excludes the authority to promulgate regulations under this legislation.

This delegation became effective upon date of signature. In addition, I have affirmed and ratified any actions taken by the Director, Centers for Disease Control and Prevention, or his subordinates which involved the exercise of the authorities delegated herein prior to the effective date of the delegation.

Dated: September 28, 2001.
Tommy G. Thompson,
Secretary.

[FR Doc. 01-24996 Filed 10-4-01; 8:45 am]

BILLING CODE 4160-18-M